DEPARTMENT OF THE INTERIOR

Bureau of Indian Affairs

[145A2100DD/A0T501010.999900/AAK3000000]

Renewal of Agency Information Collection for Certificate of Degree of Indian or Alaska Native Blood (CDIB)

AGENCY: Bureau of Indian Affairs, Interior.

ACTION: Notice of request for comments.

SUMMARY: In compliance with the Paperwork Reduction Act of 1995, the Bureau of Indian Affairs (BIA) is seeking comments on the renewal of Office of Management and Budget (OMB) approval for the collection of information for the Certificate of Degree of Indian or Alaska Native Blood (CDIB) authorized by OMB Control Number 1076-0153. This information collection expires October 31, 2014.

DATES: Submit comments on or before September 16, 2014.

ADDRESSES: You may submit comments on the information collection to: Ms. Laurel Iron Cloud, Chief, Division of Tribal Government Services, Office of Indian Services, Bureau of Indian Affairs, 1849 C Street NW., Mail Stop 4513 MIB, Washington, DC 20240; facsimile: (202) 208-5113; email: laurel.ironcloud@bia.gov.

FOR FURTHER INFORMATION CONTACT: Ms. Laurel Iron Cloud, telephone (202) 513-7641.

SUPPLEMENTARY INFORMATION:

I. Abstract

BIA is seeking renewal of the approval for the information collection conducted under the numerous laws authorizing BIA to administer program services to Indians, provided that the individual possess a minimum degree of Indian or Alaska Native blood. When applying for program services authorized by these laws, an applicant must provide acceptable documentation to prove that he or she meets the minimum required degree of Indian or Alaska Native blood. Currently, the BIA certifies an individual's degree of Indian or Alaska Native blood if the individual can provide sufficient information to prove his or her identity and prove his or her descent from an Indian ancestor(s) listed on historic documents approved by the Secretary of the Interior that include blood degree information. To obtain the CDIB, the applicant must fill out an application form and provide supporting documents. BIA is seeking renewal of OMB approval to collect the information necessary to issue CDIBs.

II. Request for Comments

The BIA requests your comments on this collection concerning: (a) The necessity of the information collection for the proper performance of the functions of the agencies, including whether the information will have practical utility; (b) the accuracy of the agency's estimate of the burden (hours and cost) of the collection of information, including the validity of the methodology and assumptions used; (c) ways we could enhance the quality, utility and clarity of the information to be collected; and (d) ways we could minimize the burden of the collection of the information on the respondents.

Please note that an agency may not sponsor or conduct, and an individual need not respond to, a collection of information unless it displays a valid OMB Control Number.

It is our policy to make all comments available to the public for review at the location listed in the ADDRESSES section during the hours of 9:00 a.m. to 5:00 p.m., Eastern Time, Monday through Friday except for legal holidays. Before including your address, phone number, email address or other personally identifiable information in your comment, you should be aware that your entire comment—including your personally identifiable information—may be made publicly available at any time. While you can ask us in your comment to withhold your personally identifying information from public review, we cannot guarantee that we will be able to do so.

III. Data

OMB Control Number: 1076-0153.

Title: Certificate of Degree of Indian or Alaska Native Blood.

Brief description of collection: Submission of this information allows BIA to verify the applicant's Indian ancestry and to determine the applicant's degree of Indian blood. The applicant will provide information, such as birth certificates, death certificates, and probates to document the applicant's descent from an Indian ancestor(s). BIA uses historic roll(s) or other documents that list the ancestors' name, gender, date of birth, date of death, blood degree and other identifying information to verify the applicant's descent. After the information and supporting documentation has been verified, BIA will issue a CDIB to the applicant. The applicant may use the CDIB to help document their eligibility for BIA programs and services. Other agencies may also rely on a CDIB as proof of eligibility for certain programs and services. CDIBs do not establish membership in an Indian tribe. A CDIB is not an enrollment document. The collection of this information is voluntary. Response is required to obtain or retain a benefit.

Type of Review: Extension without change of a currently approved collection.

Respondents: Individuals.

Number of Respondents: 154,980 per year, on average.

Number of Responses: 154,980 per year, on average.

Frequency of Response: Once.

Estimated Time per Response: 1.5 hours.

Estimated Total Annual Hour Burden: 232,470 hours.

Estimated Total Annual Non-Hour Dollar Cost: $6,199,200.

Dated: July 14, 2014.
Christine Cho,
Acting Assistant Director for Information Resources—Indian Affairs.

[FR Doc. 2014-16967 Filed 7-17-14; 8:45 am]

BILLING CODE 4310-4J-P